ENVIRONMENTAL PROTECTION AGENCY

[FRL-6528-4]

Board of Scientific Counselors, Executive Committee Meeting

AGENCY: Environmental Protection Agency (EPA).

ACTION: Notice of meeting.

SUMMARY: Pursuant to the Federal Advisory Committee Act, Public Law 92-463, as amended (5 U.S.C., App. 2) notification is hereby given that the Environmental Protection Agency, Office of Research and Development (ORD), Board of Scientific Counselors (BOSC), will hold an Executive Committee Meeting.

DATES: The meeting will be held on February 9-10, 2000. On Wednesday, February 9, the meeting will begin at 9 a.m., and will recess at 4:30 p.m. On Thursday, February 10, the meeting will reconvene at 8:45 a.m. and adjourn at approximately 1 p.m. All times noted are Eastern Time.

ADDRESSES: The meeting will be held at the Washington Monarch Hotel, 2401 M Street, NW., Washington, DC.

FOR FURTHER INFORMATION CONTACT: Shirley R. Hamilton, Designated Federal Officer, U.S. Environmental Protection Agency, Office of Research and Development, NCERQA (MC 8701R), 401 M Street, SW., Washington, DC 20460, (202) 564-6853.

SUPPLEMENTARY INFORMATION: Agenda items will include, but not limited to: Discussion on ORD's Particulate Matter2.5 Research Program and BOSC subcommittee Draft Reports on Particulate Matter, and SAB and BOSC subcommittee Review of ORD's Science to Achieve Results (STAR) Program. Anyone desiring a draft BOSC agenda may fax their request to Shirley R. Hamilton, (202) 565-2444. The meeting is open to the public. Any member of the public wishing to make a presentation at the meeting should contact Shirley Hamilton, Designated Federal Officer, Office of Research and Development (8701R), 1200 Pennsylvania Avenue, NW., Washington , DC 20460; or by telephone at (202) 564-6853. In general, each individual making an oral presentation will be limited to a total of three minutes.

Dated: January 18, 2000.
John C. Puzak,
Acting Director, National Center for Environmental Research and Quality Assurance.

[FR Doc. 00-1665 Filed 1-24-00; 8:45 am]

BILLING CODE 6560-50-M